DEPARTMENT OF JUSTICE

Notice of Lodging of Consent Decree Under the Clean Air Act

Under 28 CFR 50.7, notice is hereby given that on September 13, 2005, a Consent Decree in the matter of United States, et al. v. Clean Harbors Services, et al., Civil Action No. 05 C 5234 was lodged with the United States District Court for the Northern District of Illinois.

In a complaint that was filed simultaneously with the Consent Decree, the United States, the State of Illinois, and the State of Louisiana sought injunctive relief and penalties against ten affiliated companies of Clean Harbors Environmental Services, Inc. (“Clean Harbors”), pursuant to Sections 113(b) and 304(a) of the Clean Air Act (“CAA”), 42 U.S.C. 7413(b), 7604(a), for alleged violations of the Benzene Waste Operations National Standard for Hazardous Air Pollutants, 40 CFR 63.340 et seq., (“Benzene Waste NESHAP”) occurring at facilities owned and operated by Clean Harbors at the following locations: Chicago, Illinois; Cincinnati, Ohio; Braintree, Massachusetts; Bristol, Connecticut; Baton Rouge, Louisiana; Plaquemine, Louisiana; Pa Porte, Texas; Deer Park, Texas; Kimball, Nebraska; and Aragonite, Utah.

Under the settlement, Clean Harbors, inter alia, will calculate benzene waste quantities at the point where the waste enters each facility; will either directly sample waste or use the highest benzene concentration value—instead of the middle value—when a generator lists a “range” of benzene concentrations in the waste being shipped; and will implement a sampling program for waste shipments in order to confirm the accuracy of the benzene quantities entering the facilities. Clean Harbors also will pay a civil penalty of $300,000.

The Department of Justice will receive for a period of thirty (30) days from the date of this publication comments relating to the Consent Decree. Comments should be addressed to the Assistant Attorney General, Environmental and Natural Resources Division, P.O. Box 7611, U.S. Department of Justice, Washington, DC 20044-7611, and should refer to the United States, et al. v. Clean Harbors Services, et al., D.J. Ref. No. 90-5-2-1-06949.

The Consent Decree may be examined at the Office of the United States Attorney, 219 W. Dearborn St., Chicago, IL 60604, and at U.S. EPA Region 5, 77 W. Jackson St., Chicago, IL 60604. During the public comment period, the Consent Decree may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. In requesting a copy from the Consent Decree Library, pleas enclose a check in the amount of $13.00 (25 cents per page reproduction cost) payable to the U.S. Treasury.

William D. Brighton,
Assistant Section Chief, Environmental Enforcement Section, Environment and Natural Resources Division.

[FR Doc. 05-19403 Filed 9-28-05; 8:45 am]

BILLING CODE 4410-15-M